DEPARTMENT OF JUSTICE

[OMB 1140-0022]

Agency Information Collection Activities; Extension of a Previously Approved Collection; Federal Explosives License/Permit (FEL/P) Renewal Application—ATF Form 5400.14/5400.15

AGENCY: Bureau of Alcohol, Tobacco, Firearms, and Explosives, Department of Justice.

ACTION: 60-Day notice.

SUMMARY: The Department of Justice (DOJ), Bureau of Alcohol, Tobacco, Firearms, and Explosives (ATF), will be submitting the following information collection request for renewal to the Office of Management and Budget (OMB) for review and approval in accordance with the Paperwork Reduction Act of 1995.

DATES: We encourage comments and will accept them for 60 days, until November 15, 2024.

FOR FURTHER INFORMATION CONTACT: If you have additional comments, especially on the estimated public burden or associated response time, suggestions, or need a copy of the proposed information collection instrument with instructions or additional information, contact: Shawn Stevens, Federal Explosives Licensing Center, either by mail at 244 Needy Rd., Martinsburg, WV 25405, by email at FELC@atf.gov, or by telephone at 304-616-4400.

SUPPLEMENTARY INFORMATION: We encourage written comments and suggestions from the public and affected agencies concerning the proposed information collection. Your comments should address one or more of the following four points:

—Evaluate whether the proposed information collection is necessary for the proper performance of Bureau of Alcohol, Tobacco, Firearms, and Explosives (ATF) functions, including whether the information will have practical utility;

—Evaluate the accuracy of the agency's estimate of the burden of the proposed information collection, including the validity of the methodology and assumptions used;

—Evaluate whether the quality, utility, and clarity of the information to be collected can be enhanced, and if so, how; and

—Suggest ways to minimize the burden of the information collection on those who are to respond, including through the use of appropriate automated, electronic, mechanical, or other technological collection techniques or other forms of information technology, e.g., permitting electronic submission of responses.

Abstract: Chapter 40 of title 18 of the United States Code (U.S.C.) provides that no person may engage in the business of manufacturing, importing, or dealing in explosives without first obtaining a license to do so. In addition, the statute also requires a person who wants to receive or transport explosives or explosive materials in interstate or foreign commerce to first obtain a permit to do so. Licenses/permits are issued for a specific period and are renewable upon the same conditions as the original license/permit. In order to continue uninterrupted in the activities covered by the license/permit when that specific period ends, licensees/permittees must renew their license/permit by filing a renewal application form.

Overview of This Information Collection

1. Type of Information collection: Extension of a previously approved collection.

2. Title of the form/collection: Federal Explosives License/Permit (FEL/P) Renewal Application.

3. The agency form number, if any, and the applicable component of the Department sponsoring the collection: Form number: ATF Form 5400.14/5400.15. Component: Bureau of Alcohol, Tobacco, Firearms, and Explosives, U.S. Department of Justice.

4. Affected public who will be asked or required to respond, as well as the obligation to respond: Affected Public: Individuals or households; private sector, for- or not-for-profit institutions. The obligation to respond is mandatory per 18 U.S.C. 843(a).

5. An estimate of the total number of respondents and the amount of time estimated for an average respondent to respond: An estimated 3,000 respondents will use the form once annually, and it will take each respondent approximately 20 minutes to complete their responses.

6. An estimate of the total annual time burden (in hours) associated with the collection: The estimated annual public time burden associated with this collection is 900 total hours, which is equal to 3,000 (total respondents) * 1 (# of responses per respondent) * 0.3 (20 minutes).

7. An estimate of the total annual public costs associated with the collection: It costs an average of $1 to mail the application to ATF (current first-class standard envelope postage cost of .68 cents averaged with higher costs for some respondents who will incur additional postage for mailing larger envelopes containing fingerprint cards).

8. Combined estimated time burden and item (postage) costs to the public:

Estimated Annualized Public Time Burden and Item Costs
Activity | Number of respondents | Frequency of response | Total annual responses | Time per response | Hourly rate or item cost | Monetized time or item cost/ respondent | Annualized costs for all respondents
Explosives Renewal Application | 3,000 | 1 | 3,000 | 20 min (0.3/hour) | $44.72 | $13.00 | $39,000
Postage costs |  |  |  | n/a | 1 | 1 | 3,000
Totals |  |  |  |  |  | 14.00 | 42,000

If additional information is required contact: Darwin Arceo, Department Clearance Officer, United States Department of Justice, Justice Management Division, Policy and Planning Staff, Two Constitution Square, 145 N Street NE, 4W-218, Washington, DC.

Dated: September 11, 2024.
Darwin Arceo,
Department Clearance Officer for PRA, U.S. Department of Justice.

[FR Doc. 2024-20975 Filed 9-13-24; 8:45 am]

BILLING CODE 4410-FY-P